ENVIRONMENTAL PROTECTION AGENCY

[FRL-9988-96-OAR]

Inventory of U.S. Greenhouse Gas Emissions and Sinks: 1990-2017

AGENCY: Environmental Protection Agency (EPA).

ACTION: Notice of document availability and request for comments.

SUMMARY: The Draft Inventory of U.S. Greenhouse Gas Emissions and Sinks: 1990-2017 is available for public review. EPA requests recommendations for improving the overall quality of the inventory report to be finalized in April 2019, as well as subsequent inventory reports.

DATES: To ensure your comments are considered for the final version of the document, please submit your comments by March 14, 2019. However, comments received after that date will still be welcomed and considered for the next edition of this report.

ADDRESSES: Submit your comments, identified by Docket ID No. EPA-HQ-OAR-2018-0853, to the Federal eRulemaking Portal: https://www.regulations.gov. Follow the online instructions for submitting comments. Once submitted, comments cannot be edited or withdrawn. Do not submit electronically any information you consider to be Confidential Business Information (CBI). Comments can also be submitted in hardcopy to GHG Inventory at: Environmental Protection Agency, Climate Change Division (6207A), 1200 Pennsylvania Ave. NW, Washington, DC 20460, Fax: (202) 343-2342. You are welcome and encouraged to send an email with your comments to GHGInventory@epa.gov. EPA may publish any comment received to its public docket, submitted in hardcopy or sent via email. For additional submission methods, the full EPA public comment policy, information about CBI, and general guidance on making effective comments, please visit http://www2.epa.gov/dockets/commenting-epa-dockets.

FOR FURTHER INFORMATION CONTACT: Ms. Mausami Desai, Environmental Protection Agency, Office of Air and Radiation, Office of Atmospheric Programs, Climate Change Division, (202) 343-9381, ghginventory@epa.gov@epa.gov.

SUPPLEMENTARY INFORMATION: Annual U.S. emissions for the period of time from 1990 through 2017 are summarized and presented by sector, including source and sink categories. The inventory contains estimates of carbon dioxide (CO2), methane (CH4), nitrous oxide (N2O), hydrofluorocarbons (HFC), perfluorocarbons (PFC), sulfur hexafluoride (SF6), and nitrogen trifluoride (NF3) emissions. The technical approach used in this report to estimate emissions and sinks for greenhouse gases is consistent with the methodologies recommended by the Intergovernmental Panel on Climate Change (IPCC), and reported in a format consistent with the United Nations Framework Convention on Climate Change (UNFCCC) reporting guidelines. The Inventory of U.S. Greenhouse Gas Emissions and Sinks: 1990-2017 is the latest in a series of annual, policy-neutral U.S. submissions to the Secretariat of the UNFCCC. EPA requests recommendations for improving the overall quality of the inventory report to be finalized in April 2019, as well as subsequent inventory reports.

The draft report is available at https://www.epa.gov/ghgemissions/inventory-us-greenhouse-gas-emissions-and-sinks.

Sarah Dunham,
Director, Office of Atmospheric Programs.

[FR Doc. 2019-01545 Filed 2-11-19; 8:45 am]

BILLING CODE 6560-50-P